DEPARTMENT OF TRANSPORTATION

Federal Transit Administration

[Docket Number: FTA-2007-28780]

Notice of Availability of Proposed Policy Guidance on Evaluation Measures for New Starts/Small Starts

AGENCY: Federal Transit Administration (FTA), DOT.

ACTION: Notice of availability; request for comments.

SUMMARY: This notice announces the availability of the Federal Transit Administration's (FTA) Proposed Policy Guidance on Evaluation Measures for New Starts/Small Starts and requests your comments on it. This document complements the Notice of Proposed Rulemaking for Major Capital Investments by describing the detailed measures proposed for evaluation of projects seeking New and Small Starts funding and the way these measures will be used in project ratings. The Proposed Evaluation Measures for New Starts/Small Starts is available in DOT's electronic docket and on FTA's Web site. FTA requests comment on the proposed detailed measures and associated policy in the Proposed Policy Guidance on Evaluation Measures for New Starts/Small Starts. After receiving and considering public input on the proposed guidance, FTA will respond to the comments it has received and issue final guidance concurrently with a final rule for Major Capital Investments.

DATES: Comments must be received by November 1, 2007. Late filed comments will be considered to the extent practicable.

ADDRESSES: Comments: You may submit comments [identified by the DOT DMS Docket number FTA-2007-28780] by any of the following methods:

Web site: http://dms.dot.gov. Follow the instructions for submitting comments on the DOT electronic docket site.

Fax: 202-493-2251.

Mail: Docket Management Facility; U.S. Department of Transportation, 1200 New Jersey Avenue, SE., W12-140, Washington, DC 20590-0001.

Hand Delivery: Room W12-140 on the first floor of the West Building, 1200 New Jersey Avenue, SE., Washington, DC, between 9 a.m. and 5 p.m., Monday through Friday, except Federal holidays.

Instructions: You must include the agency name (Federal Transit Administration) and the docket number (FTA-2007-28780). You should submit two copies of your comments if you submit them by mail. If you wish to receive confirmation that FTA received your comments, you must include a self-addressed stamped postcard. Note that all comments received will be posted without change to the Department Docket Management System (DMS) Web site located at http://dms.dot.gov. This means that if your comment includes any personal identifying information, such information will be made available to users of DMS.

FOR FURTHER INFORMATION CONTACT: Ron Fisher, Office of Planning and Environment, telephone (202) 366-4033, Federal Transit Administration, U.S. Department of Transportation, 1200 New Jersey Avenue, SE., Washington, DC 20590 or Ronald.Fisher@dot.gov.

SUPPLEMENTARY INFORMATION: On August 10, 2005, President Bush signed the Safe, Accountable, Flexible, Efficient Transportation Equity Act: A Legacy for Users (SAFETEA-LU). Section 3011 of SAFETEA-LU made a number of changes to 49 U.S.C. 5309, which authorizes the Federal Transit Administration's (FTA) fixed guideway capital investment program known as ”New Starts”, and created a new program category known as ”Small Starts”. FTA is responding to changes made by the SAFETEA-LU provisions in a Notice of Proposed Rulemaking (NPRM) for Major Capital Investments, which is being issued concurrently. The NPRM addresses the eligibility, project justification and local financial commitment criteria, overall project ratings and project development process for New Starts, Small Starts and Very Small Starts. While the NPRM provides the framework and criteria weights for project justification and local financial commitment, the document that is the subject of this notice complements the NPRM by providing detailed descriptions of the measures for project justification and local financial commitment and the way they will be used in the ratings for project evaluation.

This notice announces the availability of FTA's Proposed Policy Guidance on Evaluation Measures for New Starts/Small Starts and requests your comment as described below. The document is available in the docket, which can be accessed by going to http://dms.dot.gov at any time, or you can view the document on FTA's Web site at http://www.fta.dot.gov/15052_ENGHTML.html.

The evaluation measures, once announced as final, will apply to all New and Small Starts submittals received after the effective date announced in the Notice of Availability published in the Federal Register for Policy Guidance on Evaluation Measures for New Starts/Small Starts. FTA intends to publish the final Policy Guidance on Evaluation Measures for New Starts/Small Starts concurrently with the final rule for Major Capital Investments. Comments received will be used to develop the detailed measures and evaluations for projects seeking funds from the New and Small Starts programs. FTA will respond to comments received in response to this Notice in a second Federal Register notice to be published after the close of the comment period. The notice will announce the availability of the Policy Guidance on Evaluation Measures for New Starts/Small Starts, reflecting the changes implemented as a result of the comments received thereon.

Issued in Washington, DC this 19th day of July, 2007.
James S. Simpson,
Administrator, Federal Transit Administration.

[FR Doc. E7-14279 Filed 8-2-07; 8:45 am]

BILLING CODE 4910-57-P